DEPARTMENT OF THE INTERIOR

Bureau of Land Management

[CACA-051552, LLCAD0700 L51010000 FX0000 LVRWB10B3980]

Notice of Availability of a Draft Land Use Plan Amendment, Environmental Impact Statement and Environmental Impact Report for the Pattern Energy Group Ocotillo Express Wind Energy Project, Imperial County, CA

AGENCY: Bureau of Land Management, Interior.

ACTION: Notice of Availability.

SUMMARY: In accordance with the National Environmental Policy Act of 1969 (NEPA), as amended, and the Federal Land Policy and Management Act of 1976, as amended (FLPMA), the Bureau of Land Management (BLM) has prepared a Draft California Desert Conservation Area (CDCA) Plan Amendment (PA)/Draft Environmental Impact Statement (EIS) and Draft Environmental Impact Report (EIR) for the Ocotillo Express Wind Energy Project (OWEF) and by this notice is announcing the opening of the comment period on the Draft CDCA PA and EIS/EIR.

DATES: To ensure that your comments will be considered, the BLM must receive written comments on the Draft PA/EIS/EIR within 90 days following the date the Environmental Protection Agency publishes its Notice of Availability in the Federal Register. The BLM will announce future meetings or hearings and any other public involvement activities at least 15 days in advance through public notices, media releases, and/or mailings.

ADDRESSES: You may submit comments related to OWEF by any of the following methods:

• Web site: http://www.blm.gov/ca/st/en/fo/elcentro.html.

• E-mail: caocotillo@blm.gov.

• Fax: (760) 337-4490.

• Mail: Cedric Perry, Project Manager, California Desert District (CDD), BLM, 22835 Calle San Juan De Los Lagos, Moreno Valley, California 92553.

Copies of the Draft PA/EIS/EIR are available on the BLM Web site at: http://www.ca.blm.gov/elcentro and at the CDD at the above address and in the BLM El Centro Field Office, 1661 S. 4th Street, El Centro, California 92243.

FOR FURTHER INFORMATION CONTACT: For further information and/or to have your name added to our mailing list, contact Cedric Perry, BLM Project Manager, telephone (951) 697-5388; address 22835 Calle San Juan De Los Lagos, Moreno Valley, CA 92553; e-mail Cedric_Perry@ca.blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Pattern Energy, Inc. through Ocotillo Express, LLC (OE LLC) has submitted a right-of-way (ROW) application to construct, operate, maintain, and decommission an approximate 12,436-acre, 474 megawatt (MW) wind energy project including 158 wind turbine generators, a substation, administration, operations and maintenance facilities, transmission lines, access roads, and temporary construction lay down areas.

The proposed wind energy project would be located on BLM-administered lands and a small portion of land under the jurisdiction of Imperial County, approximately 5 miles west of Ocotillo, Imperial County, California. The proposed OWEF would be constructed in 2 phases. Phase I is anticipated to total approximately 315 MW, with the installation of up to 137 turbines ranging from 1.6 to 3 MW in generating capacity. Phase II would include the construction of 21 turbines (also ranging 1.6 to 3 MW in capacity) generating up to 159 MW.

The BLM has invited the U.S. Army Corps of Engineers (Corps) to be a cooperating Federal agency in the preparation of the Draft PA/EIR/EIS because the Corps has jurisdiction by law under its delegated authority in section 404 of the Clean Water Act of 1972, as amended (33 U.S.C. Section 1344), as well as special expertise in aquatic ecosystems that could be affected by the Ocotillo Project. The BLM and Corps agree that it will be beneficial to create a more streamlined, coordinated approach in developing the OWEF Draft PA/EIS/EIR. The two Federal agencies will be developing a Memorandum of Understanding for this purpose.

The BLM's purpose and need for the Draft PA/EIS/EIR is to respond to OE LLC's application for a ROW grant to construct, operate, maintain, and decommission a wind energy facility on public lands in compliance with FLPMA, BLM ROW regulations, and other applicable Federal laws. The BLM will decide whether to grant, grant with modification, or deny the ROW application for the proposed OWEF. Concurrently with its action on the ROW request, the BLM is also proposing to amend the CDCA Plan by designating the project area as either available or unavailable for wind energy projects. The CDCA Plan, while recognizing the potential compatibility of wind energy generation facilities with other uses on public lands, requires that all sites proposed for power generation or transmission not already identified in the CDCA Plan be considered through the plan amendment process. If the BLM decides to amend the CDCA Plan, a ROW for this project could be granted. If not, the ROW could not be granted.

In addition to the proposed action and a no action alternative, the BLM is analyzing a 137-turbine alternative and a 105-turbine alternative. The Draft PA/EIS/EIR also analyzes two “no project” alternatives that reject the project but amend the CDCA Plan to make the project area either (1) available to future wind energy generation projects; or (2) unavailable to future wind energy generation projects.

The Draft PA/EIS/EIR evaluates the potential impacts of the proposed OWEF on air quality, biological resources, cultural resources, water resources, geological resources and hazards, land use, noise, paleontological resources, public health, socioeconomics, soils, traffic and transportation, visual resources, wilderness characteristics, and other resources.

A Notice of Intent to Prepare an EIS/EIR for the OWEF project was published in the Federal Register on December 13, 2010 (75 FR 77654). The BLM held 2 public scoping meetings in El Centro and Ocotillo, California, on January 5th and 6th, 2011, respectively. The formal scoping period ended on February 4, 2011.

Please note that public comments and information submitted including names, street addresses, and e-mail addresses of persons who submit comments will be available for public review at the above address during regular business hours (8 a.m. to 4 p.m.), Monday through Friday, except holidays.

Before including your phone number, e-mail address, or other personal identifying information in your comments, you should be aware that your entire comment—including your personal identifying information—may be made publicly available at any time. While you can ask us in your comment to withhold your personal identifying information from public review, we cannot guarantee that we will be able to do so.

Authority: 40 CFR 1506.6, 1506.10, 43 CFR 1610.2, and 1610.5.

Thomas Pogacnik,
Deputy State Director, California.

[FR Doc. 2011-17159 Filed 7-7-11; 8:45 am]

BILLING CODE 4310-40-P